DEPARTMENT OF HOMELAND SECURITY

Coast Guard

33 CFR Part 117

[CGD08-03-041]

Drawbridge Operation Regulations; Lower Grand River (Alternate Route), Grosse Tete, LA

AGENCY: Coast Guard, DHS.

ACTION: Notice of temporary deviation from regulations.

SUMMARY: The Commander, Eighth Coast Guard District, has issued a temporary deviation from the regulation governing the operation of the Grosse Tete Swing Span Highway Bridge across Lower Grand River (Alternate Route), mile 47.0, at Grosse Tete, Iberville Parish, LA. This deviation allows the bridge to remain closed to navigation at various times from November 3, 2003 through November 17, 2003. The deviation is necessary to perform rehabilitation and post-tensioning work on the drawbridge.

DATES: This deviation is effective from 9 a.m. on November 3, 2003 through 3 p.m. on November 17, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Louisiana Department of Transportation and Development has requested a temporary deviation in order to perform rehabilitation and post-tensioning work on the swing span bridge across Lower Grand River (Alternate Route) at mile 47.0 at Grosse Tete, Iberville Parish, Louisiana. This maintenance is essential for the continued safe operation of the bridge. This temporary deviation will allow the bridge to remain in the closed-to-navigation position from 9 a.m. until 3 p.m., Monday through Friday from November 3, 2003 until November 17, 2003. The bridge will open for the passage of vessels from noon until 12:30 p.m. during the closure period. If the work is accomplished in a shorter period of time, the bridge will be returned to normal operation in accordance with Title 33, Code of Federal Regulations, Section 117.478(b). Notice of return to normal operations prior to November 17, 2003 will be published by Broadcast Notice to Mariners.

The swing span bridge has a vertical clearance of 2.5 feet above mean high water, elevation 9.0 feet Mean Sea Level and 11.5 feet above mean low water, elevation 0.0 Mean Sea Level in the closed-to-navigation position. Navigation at the site of the bridge consists mainly of tows with barges and some recreational craft. There are no commercial fishermen that transit the waterway at the bridge site. Based on prior experience, as well as coordination with waterway users, it has been determined that this closure will not have a significant effect on these vessels. The bridge normally opens to pass navigation an average of 490 times per month. In accordance with 33 CFR 117.478(b), the draw of the LA 77 bridge, mile 47.0 (Alternate Route) at Grosse Tete, opens on signal; except that, from about August 15 to about June 5 (the school year), the draw need not be opened from 6 a.m. to 8 a.m. and from 2:30 p.m. to 4:30 p.m., Monday through Friday, except Federal holidays. The draw opens on signal at any time for an emergency aboard a vessel. Alternate routes are available. Mariners may transit the area via the Mississippi River through the Harvey Canal lock or via the Atchafalaya River through the Old River lock.

In accordance with 33 CFR 117.35(c), this work will be performed with all due speed in order to return the bridge to normal operation as soon as possible. This deviation from the operating regulations is authorized under 33 CFR 117.35.

Dated: October 14, 2003.
Marcus Redford,
Bridge Administrator.

[FR Doc. 03-26556 Filed 10-20-03; 8:45 am]

BILLING CODE 4910-15-P